DEPARTMENT OF COMMERCE

International Trade Administration

Office of Manufacturing; Roundtable on the 3Rs Initiative (Reduce Waste, Reuse and Recycle); Notice of Request for Written Comments

On October 14, 2004, the U.S. Department of Commerce and the Office of Manufacturing hosted an outreach meeting to discuss the 3Rs Initiative (Reduce waste, Reuse and Recycle) that was introduced by the Government of Japan and supported by the U.S. at the 2004 G8 summit in Sea Island, Georgia. The following objectives for the Initiative were established by the G-8 nations:

(1) Reduce waste, reuse and recycle resources and products to the extent feasible;

(2) Reduce barriers to the international flow of goods and materials for recycling and remanufacturing, recycled and remanufactured products, and cleaner, more efficient technologies, consistent with existing environmental and trade obligations and frameworks;

(3) Encourage cooperation among various stakeholders (central governments, local governments, the private sector, NGOs and communities), including voluntary and market-based activities;

(4) Promote science and technology suitable for 3Rs; and

(5) Cooperate with developing countries in such areas as capacity building, raising public awareness, human resource development and implementation of recycling projects.

It was further agreed at Sea Island that Japan would host a Ministerial level conference on the Initiative. This has been scheduled by the Government of Japan for April 28-30, 2005 in Tokyo. The White House Council on Environmental Quality (CEQ) is leading an interagency effort to determine what the United States shall attempt to accomplish through the 3Rs Initiative and the policy approaches for the Ministerial Conference. Joseph H. Bogosian, the Deputy Assistant Secretary for Manufacturing at the U.S. Department of Commerce, hosted the 3Rs meeting on October 14th in order to solicit input from all interested stakeholders including representatives of manufacturers, retailers, recyclers, and environmental organizations. Further written comments or input from interested stakeholders may be submitted to 3RsInitiative@mail.doc.gov no later than October 29th, 2004. Please include your name, phone number, and organization affiliation.

FOR FURTHER INFORMATION CONTACT: Sarah E. Aker, Office of the Deputy Assistant Secretary for Manufacturing, Department of Commerce, Room 2132, 1401 Constitution Avenue NW., Washington, DC 20230 (Phone: (202) 482-4073).

Dated: October 13, 2004.
Sarah E. Aker,
Special Assistant.

[FR Doc. 04-23282 Filed 10-14-04; 8:45 am]

BILLING CODE 3510-DR-P